DEPARTMENT OF THE INTERIOR

National Park Service

[NPS-WASO-COMP-NPS0033688; PPWOCOPP0, PPMPSD1YM0000 (222); OMB Control Number 1024-0279]

Agency Information Collection Activities; Submission to the Office of Management and Budget for Review and Approval; National Park Service Lost and Found Report

AGENCY: National Park Service, Interior.

ACTION: Notice of information collection; request for comment.

SUMMARY: In accordance with the Paperwork Reduction Act of 1995, we, the National Park Service (NPS) are proposing to renew an information collection.

DATES: Interested persons are invited to submit comments on or before October 24, 2022.

ADDRESSES: Written comments and recommendations for the proposed information collection should be sent within 30 days of publication of this notice to www.reginfo.gov/public/do/PRAMain. Find this particular information collection by selecting “Currently under Review—Open for Public Comments” or by using the search function. Please provide a copy of your comments NPS Information Collection Clearance Officer (ADIR-ICCO), 12201 Sunrise Valley Drive, (MS-242) Reston, VA 20191 (mail); or to phadrea_ponds@nps.gov (email). Please reference OMB Control Number 1024-0279 in the subject line of your comments.

FOR FURTHER INFORMATION CONTACT: To request additional information about this ICR, contact Marlene Haynes, Acting Bureau Office of Property and Fleet Management, National Park Service, 13461 Sunrise Valley Drive, Herndon, VA 20171-3272; or by email at marlene_haynes@nps.gov or by telephone 703-480-1768. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 16, 2022 (87 FR 8877). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Each year, more than 7,000 visitors to the various units of the National Park System file reports for lost or found items. Reporting of lost or found personal property in national parks is governed by 36 CFR 2.22, “Disposition of Property” which requires the unattended property to be impounded and deemed to be abandoned unless claimed by the owner or an authorized representative within 60 days. The 60-day period commences upon notification to the rightful owner of the property, if the owner can be identified, or from the time the property was placed in the superintendent's custody if the owner cannot be identified. Unclaimed property shall be deemed abandoned and disposed of in accordance with Title 41 Code of Federal Regulations.

In order to comply with the requirements of 36 CFR 2.22, the NPS uses Form 10-166, “Lost—Found Report,” to allow the park to properly identify and return found items to the legitimate owner. NPS Form 10-166 collects the following information from the visitor filing the report:

• Park name, receiving station (if appropriate), and date item was lost or found,

• name, address, city, state, zip code, email address, and contact phone numbers (cell and home),

• type, detailed description, and location where the item was last seen/found, and

• photograph of item (if available).

Title of Collection: National Park Service Lost and Found Report, 36 CFR 2.22.

OMB Control Number: 1024-0279.

Form Number: NPS Form 10-166, “Lost—Found Report.”

Type of Review: Extension of a currently approved collection.

Respondents/Affected Public: Visitors of NPS units who file reports of lost or found items.

Total Estimated Number of Annual Respondents: 7,500.

Total Estimated Number of Annual Responses: 7,500.

Estimated Completion Time per Response: 5 minutes.

Total Estimated Number of Annual Burden Hours: 625.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-20549 Filed 9-21-22; 8:45 am]

BILLING CODE 4312-52-P